DEPARTMENT OF TRANSPORTATION

Federal Aviation Administration

14 CFR Part 39

[Docket No. FAA-2012-0145; Directorate Identifier 2011-NM-066-AD; Amendment 39-17899; AD 2014-14-04]

RIN 2120-AA64

Airworthiness Directives; The Boeing Company Airplanes

AGENCY: Federal Aviation Administration (FAA), DOT.

ACTION: Final rule.

SUMMARY: We are superseding Airworthiness Directive (AD) 2003-18-10 for certain The Boeing Company Model 767 airplanes. AD 2003-18-10 required revising the Airworthiness Limitations Section of the maintenance planning data (MPD) document. This new AD also requires revising the maintenance program to incorporate an additional limitation, which terminates the existing requirements; and adds airplanes to the applicability. This AD was prompted by a re-evaluation of certain doors and flaps based on their fatigue-critical nature. We are issuing this AD to detect and correct fatigue cracking of the principal structural elements (PSEs), which could adversely affect the structural integrity of the airplane.

DATES: This AD is effective September 5, 2014.

The Director of the Federal Register approved the incorporation by reference of certain publications listed in this AD as of September 5, 2014.

The Director of the Federal Register approved the incorporation by reference of certain other publications listed in this AD as of October 16, 2003 (68 FR 53503, September 11, 2003).

ADDRESSES: For service information identified in this AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2012-0145; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Berhane Alazar, Aerospace Engineer, Airframe Branch, ANM-120S, FAA, Seattle Aircraft Certification Office, 1601 Lind Avenue SW., Renton, WA 98057-3356; phone: 425-917-6577; fax: 425-917-6590; email: berhane.alazar@faa.gov.

SUPPLEMENTARY INFORMATION:

Discussion

We issued a notice of proposed rulemaking (NPRM) to amend 14 CFR part 39 to supersede AD 2003-18-10, Amendment 39-13301 (68 FR 53503, September 11, 2003). AD 2003-18-10 applied to The Boeing Company Model 767 airplanes. The NPRM published in the Federal Register on February 22, 2012 (77 FR 10403). That NPRM proposed to continue to require revising the Airworthiness Limitations Section of the MPD document. That NPRM also proposed to require revising the maintenance program to incorporate an additional limitation, which terminates the existing requirements; and adding airplanes to the applicability.

Comments

We gave the public the opportunity to participate in developing this AD. The following presents the comments received on the proposal (77 FR 10403, February 22, 2012) and the FAA's response to each comment.

Request To Reduce the Scope of the NPRM (77 FR 10403, February 22, 2012)

ABX Air requested that we reduce the scope of the NPRM (77 FR 10403, February 22, 2012).

ABX Air stated that the “SUMMARY” and “Actions Since Existing AD was Issued” sections of the NPRM imply that it is a result of an unsafe condition relating to certain cargo doors and flaps. ABX Air stated that the NPRM would require incorporation of the July 2011 revision of Section 9 of the Boeing 767 MPD Document into the operator's maintenance program. ABX Air stated that requiring the complete revision is overreaching the AD's scope.

We disagree with reducing the scope of this final rule. The NPRM (77 FR 10403, February 22, 2012) stated that re-evaluation of certain doors and flaps prompted the new rulemaking. However, the re-evaluation was not limited to certain doors and flaps, but rather a complete review of the entire July 2011 revision of Subsection B, Airworthiness Limitations—Structural Limitations, of Section 9 of the Boeing 767 MPD Document. The AD is intended to detect and correct fatigue cracking of the principal structural elements (PSEs) listed in the July 2011 revision of Subsection B, Airworthiness Limitations—Structural Limitations, of Section 9 of the Boeing 767 MPD Document, as stated in the preamble of the NPRM. We have not changed this final rule in this regard.

Request To Revise Note 1 to Paragraph (c) of the NPRM (77 FR 10403, February 22, 2012)

Boeing requested that we revise the reference in Note 1 to paragraph (c) of the NPRM (77 FR 10403, February 22, 2012) from FAA Advisory Circular (AC) 25.1529-1A (http://rgl.faa.gov/Regulatory_and_Guidance_Library/rgAdvisoryCircular.nsf/0/E4111B5537E0B345862573B0006FA23B?OpenDocument&Highlight=ac 25.1529 1a) to FAA AC 120-93, dated November 20, 2007 (http://rgl.faa.gov/Regulatory_and_Guidance_Library/rgAdvisoryCircular.nsf/0/F73FD2A31B353A71862573B000521928?OpenDocument&Highlight=faa ac 120-93). Boeing stated that the FAA has revised AC 25.1529-1 at Revision A, dated November 20, 2007 (http://rgl.faa.gov/Regulatory_and_Guidance_Library/rgAdvisoryCircular.nsf/0/E4111B5537E0B345862573B0006FA23B?OpenDocument&Highlight=ac 25.1529 1a), to apply only to airplanes below 7,500 pounds gross weight; therefore, AC 25.1529-1A no longer applies to Model 767 airplanes.

We agree that FAA AC 25.1529-1A (http://rgl.faa.gov/Regulatory_and_Guidance_Library/rgAdvisoryCircular.nsf/0/E4111B5537E0B345862573B0006FA23B?OpenDocument&Highlight=ac 25.1529 1a) does not apply to airplanes identified in this final rule, and have determined that Note 1 to paragraph (c) of the NPRM (77 FR 10403, February 22, 2012) is not needed. That note has been removed from this final rule.

Request To Remove Reference to Certain Document

United Parcel Service (UPS) requested that we remove the reference to Subsection B, Airworthiness Limitations—Structural Inspections, of Section 9, Airworthiness Limitations (AWLs) and Certification Maintenance Requirements (CMRs), D622T001-9, Revision July 2011, of the Boeing 767 MPD Document from paragraph (g) of the NPRM (77 FR 10403, February 22, 2012). UPS stated that, if paragraph (g) of the NPRM is a restatement of the requirements of AD 2003-18-10, Amendment 39-13301 (68 FR 53503, September 11, 2003), then the July 2011 revision is not required. UPS stated that, if the intent was to indicate those revisions previously approved by rule or Alternative Method of Compliance (AMOC) approval, then paragraph (g) of the NPRM should state that those revisions were previously approved instead of referring to specific revision dates.

We disagree with the request to remove the reference. Including this reference in paragraph (g) of this final rule gives an option to the operator, and is not a requirement. No change has been made to this final rule in this regard.

Requests To Permit Use of Later Revisions of MPD

Boeing and AA requested that we permit the use of later revisions of Section 9, Airworthiness Limitations (AWLs) and Certification Maintenance Requirements (CMRs), D622T001-9, of the Boeing 767 MPD Document. Boeing stated that since the NPRM (77 FR 10403, February 22, 2012) was published, new revisions of that document have been released.

We agree to allow use of the most recent revision of the MPD (Subsection B, Airworthiness Limitations—Structural Inspections, of Section 9, Airworthiness Limitations (AWLs) and Certification Maintenance Requirements (CMRs), D622T001-9, Revision February 2014, of the Boeing 767 MPD Document), and have added this reference in paragraph (i) of this final rule accordingly. Operators may also request approval to use prior revisions of the referenced MPD as an alternative method of compliance, under the provisions of paragraph (l) of the final rule.

Requests To Provide Grace Period

ABX Air, Japan Air Lines (JAL), and All Nippon Airways (ANA) requested that we add a grace period to paragraph (i) of the NPRM (77 FR 10403, February 22, 2012).

ABX Air requested a 44-month grace period to allow operators to revise their maintenance program and do the initial inspection and repair without putting the fleet out of compliance. ABX Air stated that airplanes that have exceeded the existing 25,000-flight-cycle compliance time would be out of compliance when the AD is published. ABX believes that extending the compliance time to 44 months will provide an acceptable level of safety.

JAL requested we add a 24-month grace period to paragraph (i) of the NPRM (77 FR 10403, February 22, 2012). JAL stated that it has airplanes that have exceeded the proposed compliance time.

ANA requested that we change the compliance time for revising the maintenance program from 18 months to 45 months, or establish a grace period to coordinate with ANA's C-check maintenance schedule.

American Airlines (AA) requested clarification of the compliance times to address airplanes that are beyond the thresholds of the new tasks specified in Section 9 of the Boeing 767 MPD Document. AA stated that operators will have airplanes out of compliance with the maintenance program when Section 9 of the Boeing 767 MPD Document is incorporated.

We find that clarification of the compliance time for the initial inspection is necessary. We have added a sentence to paragraph (i)(1) of this final rule to specify that the initial compliance times for the inspections are to be done at the applicable times specified in Subsection B, Airworthiness Limitations—Structural Inspections, of Section 9, Airworthiness Limitations (AWLs) and Certification Maintenance Requirements (CMRs), D622T001-9, Revision July 2011 or Revision February 2014, of the Boeing 767 MPD Document; or within 18 months after the effective date of this AD; whichever occurs later.

In developing an appropriate compliance time, we considered the safety implications, the time necessary to design an acceptable modification, and normal maintenance schedules for timely accomplishment of the modification. In light of these items, we have determined that the times specified in Subsection B, Airworthiness Limitations—Structural Inspections, of Section 9, Airworthiness Limitations (AWLs) and Certification Maintenance Requirements (CMRs), D622T001-9, Revision July 2011 or Revision February 2014, of the Boeing 767 MPD Document; or within 18 months after the effective date of this AD; for the initial inspection is appropriate. However, under the provisions of paragraph (l) of the final rule, we will consider requests for approval of an extension of the compliance time if sufficient data are submitted to substantiate that the extension would provide an acceptable level of safety.

Request To Allow Alternate Method To Track Rotable Parts

Boeing requested that we change paragraph (i) of the NPRM (77 FR 10403, February 22, 2012) to allow Appendix 7 of FAA AC 120-93, dated November 20, 2007 (http://rgl.faa.gov/Regulatory_and_Guidance_Library/rgAdvisoryCircular.nsf/0/F73FD2A31B353A71862573B000521928?OpenDocument), or another method approved by a principal maintenance inspector (PMI), as an alternative to the method for tracking rotable parts. Boeing stated that the current statement in Subsection B, Airworthiness Limitations—Structural Inspections, of Section 9, Airworthiness Limitations (AWLs) and Certification Maintenance Requirements (CMRs), D622T001-9, Revision July 2011, of the Boeing 767 MPD Document, is overly restrictive for the purpose of identifying fleet problems with an exploratory inspection program for removable structural components.

We do not agree with the commenter's request to change the method of compliance for tracking rotable parts. The Boeing MPD method is identical to, or less restrictive for fleet age than, the method described in FAA AC 120-93, dated November 20, 2007 (http://rgl.faa.gov/Regulatory_and_Guidance_Library/rgAdvisoryCircular.nsf/0/F73FD2A31B353A71862573B000521928?OpenDocument). This AC permits a “conservative” implementation schedule to be established. However, a “conservative” schedule is undefined and, therefore, unenforceable. As a result, the FAA guidance in the AC is inappropriate for inclusion in this final rule. No change has been made to this final rule in this regard. However, under the provisions of paragraph (l) of the final rule, we will consider requests for approval of an alternative method for compliance if sufficient data are submitted to substantiate that the alternative method would provide an acceptable level of safety.

Request To Require Maintenance Program Revision

UPS requested that we revise the text of paragraph (g) of the NPRM (77 FR 10403, February 22, 2012) to require revising the maintenance program to incorporate the identified MPD documents. UPS stated that paragraph (g) of the NPRM requires operators to revise Subsection B of Section 9 of the Boeing 767 MPD Document and Appendix B of Boeing 767 MPD Document. UPS noted that operators do not have control or revision authority over the Boeing 767 MPD documents.

We agree with this request. We have revised paragraph (g) of this final rule to clarify how to revise the maintenance program.

Requests To Permit Use of Later Revisions of Service Information

Boeing and JAL requested that we permit the use of future FAA-approved revisions of the service information.

We disagree. Using the phrase “later-approved revisions” violates the Office of the Federal Register regulations for approving materials that are incorporated by reference. According to the provisions of paragraph (l) of this final rule, operators may request approval of an alternative method of compliance (AMOC) to use a later revision of the referenced MPD document as an alternative, if the request is submitted with substantiating data that demonstrate the later revision will provide an adequate level of safety. We have not changed this final rule in this regard.

Requests To Expand AMOC Section To Include Previous Approvals

United Airlines (United), AA, and UPS requested that we expand the AMOC section of the NPRM (77 FR 10403, February 22, 2012) to include previous approvals for AMOCs for AD 2003-18-10, Amendment 39-13301 (68 FR 53503, September 11, 2003).

We agree with the request. Repairs previously approved as AMOCs in accordance with AD 2003-18-10, Amendment 39-13301 (68 FR 53503, September 11, 2003), are acceptable for compliance with the corresponding actions required by this final rule. We have added a new paragraph (l)(4) to this final rule accordingly.

Requests To Expand AMOCs To Include Certain Repairs

AA and Boeing requested that we expand the AMOC section to include repairs approved under section 25.571 of the Federal Aviation Regulations (14 CFR 25.571) and section 26.43(d) of the Federal Aviation Regulations (14 CFR 26.43(d)) as acceptable methods of compliance. AA recommended that we approve as AMOCs to the NPRM (77 FR 10403, February 22, 2012) all repairs approved by a Boeing-authorized representative on parts listed in Section 9 of the Boeing 767 MPD Document that were found to be compliant with 14 CFR 25.571 and 14 CFR 26.43(d). Boeing recommended “grandfathering” existing repairs to new CMRs/structural significant items (SSI) provided adequate damage tolerance has been performed at repair approval.

We agree with the commenter. We have added a new paragraph (l)(5) to this final rule to allow the following repairs done before the effective date of this AD as acceptable methods of compliance where the inspections of the baseline structure cannot be accomplished: Repairs that are approved under both section 25.571 of the Federal Aviation Regulations (14 CFR 25.571) and section 26.43(d) of the Federal Aviation Regulations (14 CFR 26.43(d)) by the Boeing Commercial Airplanes Organization Designation Authorization (ODA) that has been authorized by the Manager, Seattle Aircraft Certification Office (ACO), to make those findings; provided that the repair specified an inspection program (inspection threshold, method, and repetitive interval); and that operators revised their maintenance or inspection program, as applicable, to include the inspection program for the repair.

Request for Clarification of Certain AMOC Section

Boeing requested that we revise paragraph (k)(3) of the NPRM (77 FR 10403, February 22, 2012) to include inspecting as an alternative method to satisfy the damage tolerance requirements. (Paragraph (k)(3) of the NPRM corresponds to paragraph (l)(3) of this final rule.) Boeing stated that doing so would clarify that, in cases where an operator cannot perform an inspection “per D622T001-9 Subsection B and D622T001-DTR in baseline configuration,” an alternate inspection type that satisfies the damage tolerance requirements can be used with an appropriate AMOC approval.

We disagree with adding the requested text to this final rule. Paragraph c. of Section 2-7 of Chapter 2, DER (designated engineering representative) Authority and Limitations, of FAA Order 8110.37E, DER Handbook, effective March 30, 2011 (http://rgl.faa.gov/Regulatory_and_Guidance_Library/rgOrders.nsf/0/3679F39DB79BB62A8625786A0066C662?OpenDocument&Highlight=8110.37e), does permit an authorized DER or other authorized representative to approve an alternative inspection method, threshold, or interval, where a new repair or modification results in the inability to accomplish the existing AD-mandated inspection, or necessitates a change in the existing AD-mandated inspection threshold. This delegation is already provided in paragraph (l)(3) of this final rule. No change has been made to the final rule in this regard.

Request To Clarify the Compliance Time for the Reporting Requirements

Delta Airlines (Delta) requested that we clarify the compliance time for the proposed reporting requirements. Delta stated that the instruction in Subsection B, Airworthiness Limitations—Structural Inspections, of Section 9, Airworthiness Limitations (AWLs) and Certification Maintenance Requirements (CMRs), Revision July 2011, or Revision February 2014, of the Boeing 767 MPD Document, specifies reporting within 10 days. Delta requested a change to state that reporting is required within 10 days after the airplane is returned to service, instead of 10 days after each individual finding.

We agree with the commenter's request. We have added new paragraph (i)(3) to this final rule to clarify that the compliance time for reporting is within 10 days after the airplane is returned to service, instead of 10 days after each individual finding. We have also added new paragraph (j) to this final rule to include the Paperwork Reduction Act Burden Statement, and re-designated subsequent paragraphs accordingly.

Other Changes to This Final Rule

We have moved the information from Note 2 of the NPRM (77 FR 10403, February 22, 2012) into paragraph (i)(2) of this final rule.

We have clarified the language in paragraph (k) of this AD and added a reference to paragraph (l) of this AD.

Conclusion

We reviewed the relevant data, considered the comments received, and determined that air safety and the public interest require adopting this AD with the changes described previously and minor editorial changes. We have determined that these minor changes:

• Are consistent with the intent that was proposed in the NPRM (77 FR 10403, February 22, 2012) for correcting the unsafe condition; and

• Do not add any additional burden upon the public than was already proposed in the NPRM (77 FR 10403, February 22, 2012).

We also determined that these changes will not increase the economic burden on any operator or increase the scope of this AD.

Costs of Compliance

We estimate that this AD affects 417 airplanes of U.S. registry. We estimate the following costs to comply with this AD:

Estimated Costs
Action | Labor cost | Parts cost | Cost per product | Cost on U.S. operators
Revise airworthiness limitations [retained action from AD 2003-18-10, Amendment 39-13301 (68 FR 53503, September 11, 2003)] | 1 work-hour × $85 per hour = $85 | $0 | $85 | $35,445
Revise airworthiness limitations [new requirement] | 1 work-hour × $85 per hour = $85 | 0 | 85 | 35,445

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW., Washington, DC 20591, ATTN: Information Collection Clearance Officer, AES-200.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2003-18-10, Amendment 39-13301 (68 FR 53503, September 11, 2003), and adding the following new AD:

2014-14-04 The Boeing Company: Amendment 39-17899; Docket No. FAA-2012-0145; Directorate Identifier 2011-NM-066-AD.

(a) Effective Date

This airworthiness directive (AD) is effective September 5, 2014.

(b) Affected ADs

This AD supersedes AD 2003-18-10, Amendment 39-13301 (68 FR 53503, September 11, 2003).

(c) Applicability

This AD applies to The Boeing Company Model 767-200, -300, -300F, and -400ER series airplanes, certificated in any category, line numbers 1 through 997 inclusive.

(d) Subject

Joint Aircraft System Component (JASC)/Air Transport Association (ATA) of America Code 51, Standard Practices/Structures; 52, Doors; 53, Fuselage; 54, Nacelle/Pylons; 55, Stabilizers; 56, Windows; and 57, Wings.

(e) Unsafe Condition

This AD was prompted by a re-evaluation of certain doors and flaps based on their fatigue-critical nature. We are issuing this AD to detect and correct fatigue cracking of the principal structural elements (PSEs), which could adversely affect the structural integrity of the airplane.

(f) Compliance

Comply with this AD within the compliance times specified, unless already done.

(g) Retained Revision of Section 9 of the Boeing 767 Maintenance Planning Data (MPD) Document

This paragraph restates the requirements of paragraph (c) of AD 2003-18-10, Amendment 39-13301 (68 FR 53503, September 11, 2003), with clarification for revising the maintenance program. For Model 767-200, -300, -300F, and -400ER series airplanes having line numbers 1 through 895 inclusive: Within 18 months after October 16, 2003 (the effective date of AD 2003-18-10), revise the maintenance program to incorporate Subsection B, Section 9, of Boeing 767 MPD Document D622T001, entitled “Airworthiness Limitations and Certification Maintenance Requirements,” Revision October 2002, and Appendix B of Boeing 767 MPD Document D622T001, Revision December 2002; or Subsection B, Airworthiness Limitations—Structural Limitations, of Section 9, Airworthiness Limitations (AWLs) and Certification Maintenance Requirements (CMRs), D622T001-9, Revision July 2011, of the Boeing 767 MPD Document.

(h) Retained Alternative Inspections and Inspection Intervals

This paragraph restates the alternative inspection and inspection interval limitations specified by paragraph (d) of AD 2003-18-10, Amendment 39-13301 (68 FR 53503, September 11, 2003). Except as provided by paragraphs (i) and (l) of this AD: After the actions required by paragraph (g) of this AD have been accomplished, no alternative inspections or inspection intervals shall be approved for the structural significant items (SSIs) contained in Section 9 of Boeing 767 MPD Document D622T001-9, Revision October 2002.

(i) New Maintenance Program Revision

(1) Within 18 months after the effective date of this AD, revise the maintenance program to incorporate the Limitations section in Subsection B, Airworthiness Limitations—Structural Inspections, of Section 9, Airworthiness Limitations (AWLs) and Certification Maintenance Requirements (CMRs), D622T001-9, Revision July 2011 or Revision February 2014, of the Boeing 767 MPD Document. Doing this maintenance program revision terminates the requirements of paragraph (g) of this AD. The initial compliance times for the inspections are at the applicable times specified in Subsection B, Airworthiness Limitations—Structural Inspections, of Section 9, Airworthiness Limitations (AWLs) and Certification Maintenance Requirements (CMRs), D622T001-9, Revision July 2011 or Revision February 2014, of the Boeing 767 MPD Document; or within 18 months after the effective date of this AD; whichever occurs later.

(2) For the purposes of this AD, the terms PSEs as used in this AD, and SSIs as used in Subsection B, Airworthiness Limitations—Structural Inspections, of Section 9, Airworthiness Limitations (AWLs) and Certification Maintenance Requirements (CMRs), D622T001-9, Revision July 2011 or Revision February 2014, of the Boeing 767 MPD Document, are considered to be interchangeable.

(3) Reports specified in Section 9, Airworthiness Limitations (AWLs) and Certification Maintenance Requirements (CMRs), D622T001-9, Revision July 2011 or Revision February 2014, of the Boeing 767 MPD Document, may be submitted within 10 days after the airplane is returned to service, instead of 10 days after each individual finding, as specified in Section 9, Airworthiness Limitations (AWLs) and Certification Maintenance Requirements (CMRs), D622T001-9, Revision July 2011 or Revision February 2014, of the Boeing 767 Maintenance Planning Data (MPD) Document.

(j) Paperwork Reduction Act Burden Statement

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(k) Alternative Inspections and Inspection Intervals

After the maintenance or inspection program has been revised as required by paragraph (i) of this AD, no alternative actions (e.g., inspections) or intervals may be used unless the actions or intervals are approved as an alternative method of compliance (AMOC) in accordance with the procedures specified in paragraph (l) of this AD.

(l) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (m) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle Aircraft Certification Office (ACO), to make those findings. For a repair method to be approved, the repair must meet the certification basis of the airplane, and the approval must specifically refer to this AD.

(4) AMOCs approved previously in accordance with AD 2003-18-10, Amendment 39-13301 (68 FR 53503, September 11, 2003), are approved as AMOCs for the corresponding actions specified in this AD.

(5) Repairs done before the effective date of this AD that meet the conditions specified in paragraphs (l)(5)(i), (l)(5)(ii), and (l)(5)(iii) of this AD are acceptable methods of compliance for the repaired area where the inspections of the baseline structure cannot be accomplished.

(i) The repair was approved under both section 25.571 of the Federal Aviation Regulations (14 CFR 25.571) and section 26.43(d) of the Federal Aviation Regulations (14 CFR 26.43(d)) by the Boeing Commercial Airplanes Organization Designation Authorization (ODA) that has been authorized by the Manager, Seattle Aircraft Certification Office (ACO), to make those findings.

(ii) The repair approval provides an inspection program (inspection threshold, method, and repetitive interval).

(iii) Operators revised their maintenance or inspection program, as applicable, to include the inspection program (inspection threshold, method, and repetitive interval) for the repair.

(m) Related Information

For more information about this AD, contact Berhane Alazar, Aerospace Engineer, Airframe Branch, ANM-120S, FAA, Seattle Aircraft Certification Office, 1601 Lind Avenue SW., Renton, WA 98057-3356; phone: 425-917-6577; fax: 425-917-6590; email: berhane.alazar@faa.gov.

(n) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on September 5, 2014.

(i) Section 9, Airworthiness Limitations (AWLs) and Certification Maintenance Requirements (CMRs), D622T001-9, Revision July 2011, of the Boeing 767 Maintenance Planning Data Document.

(ii) Section 9, Airworthiness Limitations (AWLs) and Certification Maintenance Requirements (CMRs), D622T001-9, Revision February 2014, of the Boeing 767 Maintenance Planning Data Document.

(4) The following service information was approved for IBR on October 16, 2003 (68 FR 53503, September 11, 2003).

(i) Appendix B of Boeing 767 Maintenance Planning Data Document D622T001, Revision December 2002.

(ii) Subsection B, Section 9, of Boeing 767 Maintenance Planning Data Document D622T001-9, Revision October 2002.

(5) For service information identified in this AD, contact Boeing Commercial Airplanes, Attention: Data & Services Management, P. O. Box 3707, MC 2H-65, Seattle, WA 98124-2207; telephone 206-544-5000, extension 1; fax 206-766-5680; Internet https://www.myboeingfleet.com.

(6) You may view this service information at FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on July 3, 2014.
Dionne Palermo,
Acting Manager, Transport Airplane Directorate, Aircraft Certification Service.

[FR Doc. 2014-17996 Filed 7-31-14; 8:45 am]

BILLING CODE 4910-13-P